DEPARTMENT OF COMMERCE

Census Bureau

Proposed Information Collection; Comment Request; Quarterly Financial Report

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 1, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Brandi Maxson, U.S. Census Bureau, HQ-6K083, Washington, DC 20233, Telephone (301) 763-6600 (or via the Internet at brandi.maxson@census.gov).

SUPPLEMENTARY INFORMATION

I. Abstract

This request is for extension of a currently approved information collection.

The Census Bureau is planning to resubmit to the Office of Management and Budget for approval, the Quarterly Financial Report (QFR) Program information collection forms. The QFR forms to be submitted for approval are: The QFR 200 (MT) long form; QFR 201 (MG) short form; and the QFR 300 (S) long form.

The QFR program collects and publishes up-to-date aggregate statistics on the financial results and position of U.S. corporations. The QFR target population consists of all corporations engaged primarily in manufacturing with total assets of $250,000 and over, and all corporations engaged primarily in mining; wholesale trade; retail trade; information; or professional and technical services (except legal services) industries with total assets of $50 million and over.

QFR's last submission for forms approval included an announcement of an expansion of its coverage to include four new service sectors. The new sectors included subsectors in Sector 53 (Real Estate and Rental and Leasing), excluding subsector 533 (Lessors of Nonfinancial Intangible Assets); Sector 56 (Administrative and Support and Waste Management and Remediation Services); Sector 62 (Health Care and Social Assistance); and Sector 72 (Accommodation and Food Services) based on the 2007 North American Industry Classification System (NAICS). However, on June 9, 2014, the QFR ceased collection of these additional sectors due to sample restrictions and budget constraints. Notification of this change was announced on the QFR Business Help Site (BHS) Web site and the QFR Publication.

The QFR Program has published up-to-date aggregate statistics on the financial results and position of U.S. corporations since 1947. The QFR is a principal economic indicator that also provides financial data essential to the estimation of key Government measures of national economic performance. The importance of this data collection is reflected by the granting of specific authority to conduct the program in Title 13 of the United States Code, Section 91, which requires that financial statistics of business operations be collected and published quarterly. Public Law 109-79 extended the authority of the Secretary of Commerce to conduct the QFR Program under Section 91 through September 30, 2015. Currently, QFR is in the process of reauthorizing this public law.

The main purpose of the QFR is to provide timely, accurate data on business financial conditions for use by Government and private-sector organizations and individuals. The primary public users are U.S. Governmental organizations with economic measurement and policymaking responsibilities such as Bureau of Economic Analysis, Bureau of Labor Statistic and Federal Reserve Board. In turn, these organizations play a major role in providing guidance, advice, and support to the QFR Program. The primary private-sector data users are a diverse group including universities, financial analysts, unions, trade associations, public libraries, banking institutions, and U.S. and foreign corporations.

II. Method of Collection

The Census Bureau uses two forms of data collection: Mail out/mail back paper survey forms, and a secure encrypted Internet data collection system called Centurion. Centurion provides improved quality with automatic data checks and is context-sensitive to assist the data provider in identifying potential reporting problems before submission, thus reducing the need for follow-up. Centurion is completed via the Internet eliminating the need for downloading software and increasing the integrity and confidentiality of the data.

Companies are asked to respond to the survey within 25 days of the end of the quarter for which the data are being requested. Letters and/or telephone calls encouraging participation are directed to companies in the survey sample that have not responded by the designated time.

III. Data

OMB Control Number: 0607-0432.

Form Number: QFR 200 (MT), QFR 201 (MG) and QFR 300 (S).

Type of Review: Regular (extension of a currently approved information collection).

Affected Public: Manufacturing corporations with assets of $250 thousand or more Mining, Wholesale Trade, Retail Trade, Information, Professional, Scientific, and Technical Services (excluding legal) with assets of $50 million or more.

Estimated Number of Respondents:

Form QFR 200 (MT)—4,800 per quarter = 19,200 annually

Form QFR 201 (MG)—5,750 per quarter = 23,000 annually

Form QFR 300 (S)—1,350 per quarter = 5,400 annually

Total 47,600 annually

Estimated Time Per Response:

Form QFR 200 (MT)—Average hours: 3.0

Form QFR 201 (MG)—Average hours: 1.2

Form QFR 300 (S)—Average hours: 3.0

Estimated Total Annual Burden Hours: 101,400 hours.

Estimated Total Annual Cost: $0 in recordkeeping/reporting costs.

Respondent's Obligation: Mandatory.

Legal Authority: Title 13 U.S.C. Sections 91 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 27, 2015.
Sarah Brabson,
NOAA PRA Clearance Officer, submitting for Census.

[FR Doc. 2015-07435 Filed 3-31-15; 8:45 am]

BILLING CODE 3510-07-P